NATIONAL AERONAUTICS AND SPACE ADMINISTRATION

[Notice (06-054)]

Centennial Challenges 2007 Astronaut Glove Challenge

AGENCY: National Aeronautics and Space Administration (NASA).

ACTION: Notice.

SUMMARY: This notice is issued in accordance with 42 U.S.C. 2451 (314) (d). The 2007 Astronaut Glove Challenge registration is open for teams that wish to compete. The NASA Centennial Challenges Program is a program of prize contests to stimulate innovation and competition in space exploration and ongoing NASA mission areas. The 2007 Astronaut Glove Challenge is a prize contest designed to promote the development of glove joint technology, resulting in a highly dexterous and flexible glove that can be used by astronauts over long periods of time for space or planetary surface excursions. The 2007 Astronaut Glove Challenge is being administered for NASA by Volanz Aerospace/Spaceflight America in a format that brings all competitors to a single location for a “head to head” competition. Each team will be required to perform a variety of tasks with their gloves and will be scored on the glove performance. The 2007 Astronaut Glove Challenge Web site is http://www.astronaut-glove.us. The Centennial Challenges Web site is http://centennialchallenges.nasa.gov.

DATES: The 2007 Astronaut Glove Challenge will be held in April, 2007. The specific dates and location will be listed on http://www.astronaut-glove.us.

ADDRESSES: Questions and comments regarding the NASA Centennial Challenges Program should be addressed to Mr. Ken Davidian, Suite 2M14, Centennial Challenges Program, Exploration Systems Mission Directorate, NASA, 20546-0001.

FOR FURTHER INFORMATION CONTACT: Requests for additional information regarding the NASA Centennial Challenges Program should be directed to Mr. Ken Davidian, Suite 2M14, Centennial Challenges Program, Exploration Systems Mission Directorate, NASA, 20546-0001, (202) 358-0748, kdavidian@nasa.gov. To register for and to get additional information regarding the 2007 Astronaut Glove Challenge, visit http://www.astronaut-glove.us.

SUPPLEMENTARY INFORMATION:

Summary

The 2007 Astronaut Glove Challenge prizes will go to the teams that can design and manufacture the best performing glove within competition parameters. Current astronaut gloves contain a bladder and bladder restraint. Mechanical Counter Pressure (MCP) gloves, which have not yet been used by astronauts in space, typically do not. A separate 2007 MCP Glove Demonstration will be held in order to include diverse technologies.

Challenge Basis and Prize Amount

The $250,000 total purse will be awarded at a competition scheduled for April 2007, when competing teams test their glove designs against each other. The prizes are $200,000 for the 2007 Astronaut Glove Challenge winner and $50,000 for the MCP Glove Demonstration winner. MCP glove designers may participate in either the 2007 Astronaut Glove Challenge or 2007 MCP Glove Demonstration. They may not participate in both. Bladder and bladder-restraint gloves may only participate in the 2007 Astronaut Glove Challenge. Hybrid gloves that meet the requirements of both Challenges, may participate in either the Challenge or Demonstration, but not both.

Eligibility

The Centennial Challenges Program has established the following language in the CHALLENGE Team Agreements governing eligibility. CHALLENGE is the 2007 Astronaut Glove Challenge.

TEAM is defined as an individual, organization or corporation, or a group of individuals, organizations or corporations that register to participate in CHALLENGE. TEAM is comprised of a TEAM LEADER and TEAM MEMBERS.

TEAM LEADER is defined as a single individual, organization, or corporation, which is the sole agent representing TEAM regarding its participation in CHALLENGE. TEAM LEADERS that are individuals must be U.S. citizens. TEAM LEADERS that are organizations or corporations must be incorporated in the U.S. and majority-owned and controlled by U.S. citizens. Corporate or other organizational TEAM LEADERS must appoint an individual who is an officer of the Corporation or organization to represent the TEAM LEADER.

TEAM MEMBERS are defined as those participants on the TEAM that are not the TEAM LEADER. If a TEAM consists of a single individual, then in this case the TEAM MEMBER is also the TEAM LEADER. Individuals and corporate entities that are other than U.S. citizens or entities may be TEAM MEMBERS, subject to written request to and approval by VOLANZ.

All TEAM MEMBERS will apply to register for the CHALLENGE through TEAM LEADER and must receive written concurrence by VOLANZ.

All TEAM MEMBERS must execute an “Adoption of Agreement” committing to all terms of this AGREEMENT. By signing below, TEAM LEADER represents that all TEAM MEMBERS have executed the Adoption of Agreement and that no one else will become a member of the TEAM or participate in the CHALLENGE until such new TEAM MEMBER has signed this Agreement. VOLANZ may disqualify any TEAM if it discovers that a person is acting as a TEAM MEMBER who has not signed this AGREEMENT. TEAM LEADER will provide VOLANZ with a copy of the “Adoption of Agreement” signed by each TEAM MEMBER.

Any U.S. Government organization or organization principally or substantially funded by the Federal Government, including Federally Funded Research and Development Centers, Government-owned, contractor operated (GOCO) facilities, and University Affiliated Research Centers, are ineligible to be a TEAM LEADER or TEAM MEMBER.

U.S. Government employees may not participate in the CHALLENGE as TEAM LEADER or TEAM MEMBER.

TEAM MEMBERS may not participate in CHALLENGE on more than one TEAM.

Rules

The 2007 Astronaut Glove Challenge Rules and Team Agreement can be found at: http://www.astronaut-glove.us.

Dated: August 8, 2006.
Scott J. Horowitz,
Associate Administrator, Exploration Systems Mission Directorate.

[FR Doc. E6-13498 Filed 8-15-06; 8:45 am]

BILLING CODE 7510-13-P